DEPARTMENT OF TRANSPORTATION

Federal Aviation Administration

14 CFR Part 71

[Docket No. FAA-2024-1857; Airspace Docket No. 19-ANM-99]

RIN 2120-AA66

Modification of Class D and Class E Airspace; Revocation of Class E Airspace; Buckley Space Force Base, Aurora, CO

AGENCY: Federal Aviation Administration (FAA), DOT.

ACTION: Notice of proposed rulemaking (NPRM).

SUMMARY: This action proposes to modify the Class D and Class E airspace designated as a surface area and revoke the Class E airspace designated as an extension to a Class D or Class E surface area at Buckley Space Force Base (BKF), Aurora, CO. Additionally, this action proposes administrative amendments to update the airport's legal description to match the FAA database. These actions would support the safety and management of instrument flight rules (IFR) and visual flight rules (VFR) operations at the airport.

DATES: Comments must be received on or before October 24, 2024.

ADDRESSES: Send comments identified by FAA Docket No. FAA-2024-1857 and Airspace Docket No. 19-ANM-99 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S. 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class D and Class E airspace designated as a surface area and revoke Class E airspace designated as an extension to a Class D and Class E surface area to support IFR and VFR operations at Buckley Space Force Base, Aurora, CO.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office at the Northwest Mountain Regional Office of the Federal Aviation Administration, Air Traffic Organization, Western Service Center, Operations Support Group, 2200 S. 216th Street, Des Moines, WA 98198.

Incorporation by Reference

Class D, E2, and E4 airspace designations are published in paragraphs 5000, 6002, and 6004, respectively, of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

Buckley Space Force Base (BKF) is located south of Denver International Airport (DEN) and is separated by United States Interstate 70. Centennial Airport (APA) is located nearby, approximately 9.1 nautical miles (NM) southeast of BKF. APA and BKF airports have instrument approach procedures (IAP) that involve conflicting and overlapping circling maneuver patterns. The circling maneuver patterns of category D and E aircraft landing Runway (RWY) 32 at BKF extend beyond the airport's surface area to the west and northwest of the airport. Additionally, APA and BKF Class D airspaces are separated by less than 0.30 NM. This area is comprised of controlled and uncontrolled airspace, which creates an unfavorable passage as VFR aircraft navigate between the two airports' surface areas. Lastly, IFR departures from BKF's RWY 14 occur underneath the floor of controlled airspace and outside the lateral boundaries of the BKF airport; this is due to rising terrain south-through-southeast of the airport, and the need to size the surface area airspace based on a climb rate of 200 feet per NM.

The Proposal

The FAA is proposing an amendment to 14 CFR part 71 that would modify Class D airspace, modify Class E airspace designated as a surface area, and revoke Class E airspace designated as an extension to a Class D or surface area at Buckley Space Force Base, CO.

The lateral boundaries of the airport's Class D and Class E surface areas are insufficiently sized and should be modified to better contain IFR arrivals when less than 1,000 feet above the surface of the earth and departing IFR aircraft until reaching the next adjacent airspace. Additionally, an approximately 0.30 NM gap of Class E and Class G airspaces exists between the BKF and APA surface areas. As such, the airport's Class D and Class E surface areas should be re-sized to be within a 4.4-mile radius of the airport, within 2 miles northeast and 4 miles southwest of the airport's 151° bearing extending to 7.1 miles southeast, and within 4 miles south and 4.4 miles north of the airport's 270° bearing extending to 4.7 miles west, excluding that airspace within the DEN Class B and APA Class D airspace areas. Closing this gap would redirect some VFR aircraft to transition a 500-foot vertical Class E airspace area between the vertical limits of BKF's Class D airspace and the floor of DEN Class B Area E airspace.

The FAA is proposing to revoke BKF's Class E airspace, which is designated as an extension to the Class D and E surface area. The Class E airspace area extension is no longer required due to the proposed modification of BKF's surface area airspace.

Finally, the FAA is proposing administrative actions to BKF's airspace legal descriptions. The airport's name on line 2 of both legal descriptions should state “Buckley Space Force Base, CO.” Additionally, line four of both surface area legal descriptions should include “Denver International Airport, CO” and “Centennial Airport, CO” as references, as they are used to define BKF's surface areas.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 5000 Class D Airspace.

* * * * *

ANM CO D Aurora, CO [Amended]

Buckley Space Force Base, CO

(Lat. 39°42′06″ N, long. 104°45′07″ W)

Denver International Airport, CO

(Lat. 39°51′42″ N, long. 104°40′23″ W)

Centennial Airport, CO

(Lat. 39°34′12″ N, long. 104°50′57″ W)

That airspace extending upward from the surface to but not including 7,500 feet MSL within a 4.4-mile radius of the airport, within 2 miles northeast and 4 miles southwest of the airport's 151° bearing extending to 7.1 miles southeast, and within 4 miles south and 4.4 miles north of the airport's 270° bearing extending to 4.7 miles west, excluding that airspace within the Denver International Airport, CO, Class B and Centennial Airport, CO, Class D airspace areas. This Class D airspace area is effective during the specific dates and times established in advance by a Notice to Air Missions. The effective date and time will thereafter be continuously published in the Chart Supplement.

* * * * *

Paragraph 6002 Class E Airspace Areas Designated as a Surface Area.

* * * * *

ANM CO E2 Aurora, CO [Amended]

Buckley Space Force Base, CO

(Lat. 39°42′06″ N, long. 104°45′07″ W)

Denver International Airport, CO

(Lat. 39°51′42″ N, long. 104°40′23″ W)

Centennial Airport, CO

(Lat. 39°34′12″ N, long. 104°50′57″ W)

That airspace extending upward from the surface to but not including 7,500 feet MSL within a 4.4-mile radius of the airport, within 2 miles northeast and 4 miles southwest of the airport's 151° bearing extending to 7.1 miles southeast, and within 4 miles south and 4.4 miles north of the airport's 270° bearing extending to 4.7 miles west, excluding that airspace within the Denver International Airport, CO, Class B and Centennial Airport, CO, Class D airspace areas. This Class E airspace area is effective during the specific dates and times established in advance by a Notice to Air Missions. The effective date and time will thereafter be continuously published in the Chart Supplement.

* * * * *

Paragraph 6004 Class E Airspace Areas Designated as an Extension to a Class D or Class E Surface Area.

* * * * *

ANM CO E4 Aurora, CO [Removed]

Aurora, Buckley ANG Base, CO

(Lat. 39°42′06″ N, long. 104°45′07″ W)

* * * * *

Issued in Des Moines, Washington, August 30, 2024.
B.G. Chew,
Group Manager, Operations Support Group, Western Service Center.

[FR Doc. 2024-20197 Filed 9-6-24; 8:45 am]

BILLING CODE 4910-13-P